DEPARTMENT OF COMMERCE

Foreign-Trade Zones Board

[B-21-2015]

Proposed Foreign-Trade Zone—Western Kentucky Under Alternative Site Framework

An application has been submitted to the Foreign-Trade Zones (FTZ) Board by the Paducah McCracken County Riverport Authority to establish a foreign-trade zone adjacent to the Evansville, Indiana CBP port of entry, under the alternative site framework (ASF) adopted by the FTZ Board (15 CFR 400.2(c)). The ASF is an option for grantees for the establishment or reorganization of zones and can permit significantly greater flexibility in the designation of new “subzones” or “usage-driven” FTZ sites for operators/users located within a grantee's “service area” in the context of the FTZ Board's standard 2,000-acre activation limit for a zone project. The application was submitted pursuant to the provisions of the Foreign-Trade Zones Act, as amended (19 U.S.C. 81a-81u), and the regulations of the Board (15 CFR part 400). It was formally docketed on April 10, 2015. The applicant is authorized to make the proposal under the Kentucky Revised Statutes, Section 65.530.

The proposed zone would be the third zone for the Evansville CBP port of entry. The existing zones are as follows: FTZ 146, Lawrence County, Illinois (Grantee: Bi-State Authority, Board Order 371, 2/11/1988); and, FTZ 177, Evansville, Indiana (Grantee: Ports of Indiana, Board Order 513, 3/12/1991).

The applicant's proposed service area under the ASF would be portions of McCracken and Livingston Counties. If approved, the applicant would be able to serve sites throughout the service area based on companies' needs for FTZ designation. The applicant has stated that the proposed service area is adjacent to the Evansville Customs and Border Protection port of entry.

The proposed zone would include one “magnet” site: Proposed Site 1 (30 acres)—Paducah/McCracken Riverport, 2000 Wayne Sullivan Drive, Paducah, McCracken County.

The application indicates a need for zone services in the Western Kentucky area. Specific production approvals are not being sought at this time. Such requests would be made to the FTZ Board on a case-by-case basis.

In accordance with the FTZ Board's regulations, Elizabeth Whiteman of the FTZ Staff is designated examiner to evaluate and analyze the facts and information presented in the application and case record and to report findings and recommendations to the FTZ Board.

Public comment is invited from interested parties. Submissions shall be addressed to the FTZ Board's Executive Secretary at the address below. The closing period for their receipt is June 15, 2015. Rebuttal comments in response to material submitted during the foregoing period may be submitted during the subsequent 15-day period to June 30, 2015.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Elizabeth Whiteman at Elizabeth.Whiteman@trade.gov or (202) 482-0473.

Dated: April 10, 2015.
Andrew McGilvray,
Executive Secretary.

[FR Doc. 2015-08762 Filed 4-15-15; 8:45 am]

BILLING CODE 3510-DS-P